DEPARTMENT OF DEFENSE

Office of the Secretary

Submission for OMB Review; Comment Request

ACTION: Notice.

The Department of Defense has submitted to OMB for clearance, the following proposal for collection of information under the provisions of the Paperwork Reduction Act (44 U.S.C. Chapter 35).

Title, Form Number, and OMB Number: Description of Vessels, Description of Operations; ENG Form 3931, 3932; OMB Number 0710-0009.

Type of Request: Revision.

Number of Respondents: 2,500.

Responses Per Respondent: 1.

Annual Responses: 2,500.

Average Burden Per Response: 48 minutes.

Annual Burden Hours: 2,000.

Needs and Uses: The data collected provide information on vessel operators and their American Flag vessels operating or available for operation on the inland waterways of the United States in the transportation of freight and passengers. The information provides accurate U.S. Flag fleet statistics for use by the Army Corps of Engineers and other agencies, such as the U.S. Coast Guard and Federal and State agencies involved in transportation.

Affected Public: Business or Other For-Profit.

Frequency: Annually.

Respondent's Obligation: Mandatory.

OMB Desk Officer: Mr. Jim Laity.

Written comments and recommendations on the proposed information collection should be sent to Mr. Laity at the Office of Management and Budget, Desk Officer for the U.S. Army Corps of Engineers, Room 10202, New Executive Office Building, Washington, DC 20503.

DOD Clearance Officer: Mr. Robert Cushing.

Written requests for copies of the information collection proposal should be sent to Mr. Cushing, WHS/DIOR, 1215 Jefferson Davis Highway, Suite 1204, Arlington, VA 22202-4302.

Dated: December 28, 2000.
Linda Bynum,
Alternate OSD Federal Register Liaison Officer, Department of Defense.

[FR Doc. 01-284 Filed 1-4-01; 8:45 am]

BILLING CODE 5001-10-M